DEPARTMENT OF ENERGY

Federal Energy Regulatory Commission

[Project No. 2853-073]

Montana Department of Natural Resources and Conservation; Notice of Revised Procedural Schedule for Draft and Final Environmental Assessment for the Proposed Project Relicense

On June 30, 2022, the Montana Department of Natural Resources and Conservation (Montana DNRC) filed an application for a new major license for the 9.66-megawatt Broadwater Hydroelectric Project (Broadwater Project; FERC No. 2853). On September 20, 2023, Commission staff issued a notice of intent to prepare a draft and final Environmental Assessment (EA) to evaluate the effects of relicensing the Broadwater Project. The notice of intent included an anticipated schedule for issuing the draft and final EA. By this notice, Commission staff is updating the procedural schedule for completing the draft and final EAs. The revised schedule is shown below. Further revisions to the schedule may be made as appropriate.

¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, 4336a, 137 Stat. 42.

Milestone | Target date
Commission issues draft EA | May 2024.
Comments on draft EA | June 2024.
Commission issues final EA | August 2024.¹

Any questions regarding this notice may be directed to Ingrid Brofman at (202) 502-8347, or Ingrid.brofman@ferc.gov.

Dated: April 11, 2024.
Debbie-Anne A. Reese,
Acting Secretary.

[FR Doc. 2024-08202 Filed 4-16-24; 8:45 am]

BILLING CODE 6717-01-P